ENVIRONMENTAL PROTECTION AGENCY

[EPA-HQ-OW-2003-0064, FRL-8334-6]

Agency Information Collection Activity; Proposed Collection; Comment Request; Information Collection Request for Questionnaire for Nominees for the Annual National Clean Water Act Recognition Awards Program, EPA ICR 1287.09, OMB Control Number 2040-0101

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). Before submitting the ICR to OMB for review and approval, EPA is soliciting comments on specific aspects of the proposed information collection as described below.

DATES: Comments must be submitted on or before September 4, 2007.

ADDRESSES: Submit your comments, referencing docket ID number EPA-HQ-OW-2003-0064, by one of the following methods:

• http://www.regulations.gov: Follow the online instructions for submitting comments.

• E-mail: ow-docket@epa.gov (Identify Docket ID number EPA-HQ-OW-2003-0064, in the subject line).

• Mail: Water Docket, Environmental Protection Agency, Mailcode: 2822T, 1200 Pennsylvania Ave., NW., Washington, DC 20460.

• Hand Delivery: EPA Docket Center, EPA West, Room 3334, 1301 Constitution Avenue, NW., Washington, DC. Such deliveries are only accepted during the Docket's normal hours of operation, and special arrangements should be made for deliveries of boxed information.

Instructions: Direct your comments identified by the Docket ID number EPA-HQ-OW-2003-0064. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Gajindar Singh, Municipal Support Division, Office of Wastewater Management, OWM Mail Code: 4204M, Environmental Protection Agency, 1200 Pennsylvania Ave., NW., Washington, DC 20460; telephone number: (202) 564-0634; e-mail address: singh.gajindar@epa.gov.

SUPPLEMENTARY INFORMATION:

How Can I Access the Docket and/or Submit Comments?

EPA has established a public docket for the ICR identified in this document (ID number EPA-HQ-OW-2003-0064), which is available for online viewing at www.regulations.gov, or in person viewing at the Water Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Water Docket is 202-566-2426.

Use www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of technical information/data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are public wastewater treatment plants, municipalities, industries, universities, manufacturing sites and States.

Title: Questionnaire for Nominees for the Annual National Clean Water Act Recognition Awards Program.

ICR numbers: EPA ICR No. 1287.09, OMB Control No. 2040-0101.

ICR status: This ICR is currently scheduled to expire on September 30, 2007. An Agency may not conduct or sponsor, and a person is not required to respond to, a collection of information, unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: This ICR requests reapproval to collect data from EPA's National Clean Water Act Recognition Awards nominees. The awards are for the following program categories: Operations and Maintenance (O&M) Excellence, Biosolids (Biosolids) Management Excellence, Combined Sewer Overflow Control (CSO) Program Excellence and Storm Water (SW) Management Excellence.

In 1985, EPA established the Operations and Maintenance (O&M) awards program to provide a positive incentive for compliance with the National Pollutant Discharge Elimination System. Because of the successes of the O&M Awards program, in 1988 EPA established the Beneficial Biosolids Use awards (formerly Sludge awards). In 1989, the Pretreatment awards were added. In 1990, EPA established the Combined Sewer Overflow (CSO) and Storm Water (SW) Management awards programs. The questionnaire provides the mechanism for the applicant to demonstrate outstanding and innovative wastewater management practices. The Pretreatment awards program is covered by ICR (OMB Control No. 2040-0009, EPA ICR No. 0002.12), approved through September 30, 2007. A framework to implement the awards recognition program is at 40 CFR part 105.

The respondent, i.e., those applying for the award program, will read the instructions for completing the questionnaire. The respondent will use existing files, planning and progress reports, and institutional memory to complete the questionnaire. Based on the instructions provided with the questionnaire, the respondent will compile the requested information. The requested design and operating information should be readily available from wastewater treatment facility or pollution abatement program operating records. The data collection will include flow, permit, operating and environmental data.

The information collection will be used by the respective awards program in the Office of Water, Office of Wastewater Management to evaluate and determine which pollution abatement achievements should be recognized. Based on the collection, national panels will evaluate the nominee's efforts and recommend finalists. As currently structured, the O&M awards program has nine sub-categories to recognize municipal achievements based on plant flows and treatment level. The Biosolids awards program has four sub-categories which recognize municipal biosolids operations, technology and research achievements, and public acceptance. The CSO awards program has one sub-category which recognizes municipal programs, and the SW awards program has two sub-categories which recognize municipal and industrial programs. Regions and States may also have recognition awards programs and are included in these burden estimates. National second place category winners may also be recognized. Additionally, nominated activities may sometimes receive an honorable mention or special award. The National Clean Water Act Recognition Awards are presented annually at an EPA ceremony.

Burden Statement: The total number of respondents is estimated to be 145, including 100 for the O&M program, 25 for the Biosolids program, 10 for the CSO program, and 10 for the SW program. The responses are collected once annually. The respondents reporting burden of 8 person hours per response is estimated to be 1,160 hours and a cost of $49,458. The States' review burden of 6 person hours per response is 870 hours and a cost of $37,459. Total estimated burden for this collection is 2,030 hours and $86,917. The public reporting burden for respondents is estimated to average 8 hours per response per year. For State respondents, the reporting burden is estimated to average 6 hours per response per year. Burden means the total time, effort, or financial resources expended by persons to generate, maintain, or disclose or provide information to or for a Federal agency. This includes the time needed to review instructions; develop, acquire, install, and use technology and systems for the purposes of collecting, validating, and verifying information, processing and maintaining information, and disclosing and providing information; adjust the existing ways to comply with any previously applicable instructions and requirements; train personnel to be able to respond to a collection of information; search data sources; complete and review the collection of information; and transmit or otherwise disclose information. The ICR provides a detailed explanation of the Agency's estimate, which is only briefly summarized here:

Estimated total number of potential respondents: 195 (145 applicants respondents and 50 states).

Frequency of response: once annually.

Estimated total average number of responses for each respondent: 1.

Estimated total annual burden hours: 2,030 hours.

Estimated total annual costs: $86,917. This includes an estimated burden cost of $86,917 and an estimated cost of $0 for capital investment or maintenance and operational costs.

Changes in the Estimates: There is no change in the total estimated respondent burden compared with that identified in the ICR currently approved by OMB. EPA has not modified the requirements that were included in the previous ICR.

Dated: June 27, 2007.
James A. Hanlon,
Director, Office of Wastewater Management.

[FR Doc. E7-12878 Filed 7-2-07; 8:45 am]

BILLING CODE 6560-50-P